DEPARTMENT OF COMMERCE

19 CFR Part 358

[Docket No. 260108-0023]

RIN 0625-AB31

Removing an Obsolete, One-Time Reporting Requirement From the Regulations Governing the Use of Supplies in Emergency Relief Work

AGENCY: International Trade Administration, Department of Commerce.

ACTION: Final rule.

SUMMARY: By this rule, the Department of Commerce (“Department”) amend its regulations governing the use of supplies in emergency relief work by removing an outdated and obsolete one-time reporting requirement. This action is necessary to streamline the Department's regulations and to remove a provision that no longer serves any practical purpose and that poses a risk of distraction and confusion. The intended effect of this action is to minimize regulatory complexity and clutter, and to preserve the relevancy and accuracy of the Department's regulations.

DATES: The rule is effective January 16, 2026.

FOR FURTHER INFORMATION CONTACT: Daniel Sweeney, Senior Counsel, Office of the General Counsel, at (202) 482-1395.

SUPPLEMENTARY INFORMATION:

I. Executive Summary

The Department is amending its regulations at 19 CFR part 358, which pertain to the use of supplies in emergency relief work. Specifically, the Department is amending Part 358 by removing § 358.104, a provision that established a one-time reporting requirement that is now obsolete. The Department is taking this action to reduce regulatory complexity, to eliminate clutter from the Code of Federal Regulations, and to ensure that the Department's regulations are relevant and accurate.

II. Background

The regulations at 19 CFR part 358 establish the procedures through which the Secretary of Commerce may permit the temporary importation of certain supplies free of antidumping and countervailing duties during a Presidentially-declared emergency. The Department established these regulations in a final rule on October 30, 2006 (71 FR 63234). That rule implemented the authority granted to the Secretary of Commerce under section 318(a) of the Tariff Act of 1930, as amended (19 U.S.C. 1318(a)), which allows for the duty-free importation of supplies for emergency relief work. This authority was originally vested in the Secretary of the Treasury, but it was delegated to the Secretary of Commerce with respect to antidumping and countervailing duties in 1979. The 2006 final rule was promulgated to create a clear and defined process for the Department to exercise this authority, thereby facilitating access to critical resources, such as food, clothing, medical supplies, and other necessary goods, in the event of a declared emergency.

As part of the original rulemaking, the Department promulgated 19 CFR 358.104, titled “Report.” That section required the Secretary to review the first five years of the operation of part 358 and issue a report on its findings. The purpose of this one-time report was to consider and document the impact that determinations permitting the duty-free importation of emergency supplies had on U.S. parties that had previously been found to be injured by dumped and/or subsidized imports. The Department included this provision because it had no prior experience with this waiver mechanism and sought to monitor its application for any potential unintended consequences for domestic industries.

After a review of 19 CFR part 358, the Department has determined that § 358.104 is appropriate for removal for the reasons discussed below.

III. Discussion

The Department is amending its regulations at 19 CFR part 358 to remove § 358.104. As previewed, § 358.104 established a one-time reporting requirement related to the first five years of the operation of part 358, which began in 2006. That five-year span has now long since passed (and the one-time reporting requirement was satisfied), rendering § 358.104 obsolete. Section 358.104 no longer serves any practical purpose. Accordingly, the Department has determined that § 358.104 is appropriate for removal. Removing § 358.104 represents a common-sense measure to clean up the Department's regulations, eliminate outdated language and other clutter, and minimize the risk of confusion.

For the sake of completeness, the Department also notes that the precise reporting requirement established by § 358.104 was not specifically mandated or authorized by the cited statutory authority. While 19 U.S.C. 1318(a) directs the Secretary to report to Congress on actions taken under that section, it does not require the promulgation of a regulation detailing a five-year review cycle or the specific impact assessments outlined in 15 CFR 358.104. The Department will continue to fulfill its statutory reporting obligations as required by law, and the elimination of § 358.104 does not alter the Department's statutory duties—it simply removes an unnecessary and expired procedural layer from the Code of Federal Regulations.

IV. Regulatory Certifications

A. Administrative Procedure Act

Pursuant to 5 U.S.C. 553(b)(B), the Department finds good cause to waive the prior notice and opportunity for public participation requirements of the Administrative Procedure Act for this final rule. The Department has determined that prior notice and opportunity for public participation is unnecessary, because this rule only removes a plainly outdated and obsolete one-time reporting requirement; public participation could not change the obsolete nature of § 358.104 or otherwise justify its continued inclusion in 19 CFR part 358. For the same reasons, the Department has determined that delaying the effectiveness of these amendments would be contrary to the public interest. The language being removed by this rule contributes to regulatory complexity and poses a risk of confusion, and its removal will immediately benefit the public at little to no cost. The Department therefore finds good cause to waive the public notice and comment period under 553(b)(B) and to waive the 30-day delay in effectiveness under 553(d).

B. Executive Orders 12866, 14192, 13132

The Office of Management and Budget has determined this rule is not significant pursuant to Executive Order (E.O.) 12866. This rule is an E.O. 14192 deregulatory action. This rule does not contain policies having federalism implications as the term is defined in E.O. 13132.

C. Regulatory Flexibility Act

Because a notice of proposed rulemaking and an opportunity for public participation are not required to be given for this rule by 5 U.S.C. 553(b)(B), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501 et seq.

List of Subjects for 19 CFR Part 358

Administrative practice and procedure, Antidumping, Countervailing duties, Disaster assistance, Imports, Reporting and recordkeeping requirements.

Dated: January 13, 2026.
Christopher Abbott,
Deputy Assistant Secretary for Policy and Negotiations, performing the non-exclusive functions and duties of the Assistant Secretary for Enforcement and Compliance.

Accordingly, for the reasons set forth in the preamble, part 358 of title 19 of the Code of Federal Regulations is amended as follows:

PART 358—SUPPLIES FOR USE IN EMERGENCY RELIEF WORK

1. The authority citation for part 358 continues to read as follows:

Authority: 19 U.S.C. 1318(a).

§ 358.104 [Removed and Reserved]

2. Remove and reserve § 358.104.

[FR Doc. 2026-00808 Filed 1-15-26; 8:45 am]

BILLING CODE 3510-DS-P